DEPARTMENT OF THE INTERIOR

National Park Service

First Meeting of the Big Cypress National Preserve Off-Road Vehicle (ORV) Advisory Committee

AGENCY: Department of the Interior, National Park Service, ORV Advisory Committee.

ACTION: Notice of meeting.

SUMMARY: In accordance with the Federal Advisory Committee Act (Pub. L. 92-463, 86 Stat. 770, 5 U.S.C. App 1, 10), notice is hereby given of the first meeting of the Big Cypress National Preserve ORV Advisory Committee.

DATES: The Committee will meet on Thursday, November 29, 2007, beginning at 3:30 p.m.

ADDRESSES: The meeting will be held in the cafetorium of Everglades City School, 415 School Drive, Everglades City, FL. Written comments may be sent to: Superintendent, Big Cypress National Preserve, 33100 Tamiami Trail East, Ochopee, FL 34141-1000, Attn: ORV Advisory Committee.

FOR FURTHER INFORMATION CONTACT: Karen Gustin, Superintendent, Big Cypress National Preserve, 33100 Tamiami Trail East, Ochopee, Florida 34141-1000; 239-695-1103, or go to the Web site http://www.parkplanning.nps.gov/bicy and select ORV Advisory Committee.

SUPPLEMENTARY INFORMATION: The Committee was established (Federal Register, August 1, 2007, pp. 42108-42109) pursuant to the Preserve's 2000 Recreational Off-road Vehicle Management Plan and the Federal Advisory Committee Act of 1972 (5 U.S.C. Appendix) to examine issues and make recommendations regarding the management of ORVs in the Preserve. This meeting will be administrative in nature. The topics to be discussed will be introductions, meeting logistics, parameters and ground rules for operation of the Committee. The meeting will be open to the public, and time will be reserved for public comment.

Karen Gustin,
Superintendent, Big Cypress National Preserve.

[FR Doc. E7-21637 Filed 11-2-07; 8:45 am]

BILLING CODE 4310-U6-P